SMALL BUSINESS ADMINISTRATION

Revocation of License of Small Business Investment Company

Pursuant to the authority granted to the United States Small Business Administration by the Final Order of the United States District Court for the Central District of California, dated January 14, 2004, the United States Small Business Administration hereby revokes the license of Continental Investors, Inc., a District of Columbia corporation, to function as a small business investment company under the Small Business Investment Company License No. 09/09-5144 issued to Continental Investors, Inc. on June 18, 1980 and said license is hereby declared null and void as of March 14, 2004.

Dated: September 22, 2004.
United States Small Business Administration.
Jeffrey D. Pierson,
Associate Administrator for Investment.

[FR Doc. 04-21996 Filed 9-29-04; 8:45 am]

BILLING CODE 8025-01-M